DEPARTMENT OF DEFENSE

Department of the Army; Corps of Engineers

Intent to Prepare a Draft Environmental Impact Statement for the Environmental Restoration of Areas Adjacent to Arlington and Garrows Bend Channels, Mobile Harbor Federal Navigation Project in Mobile County, Alabama

Correction

In notice document 02-1649 beginning on page 3169 in the issue of Wednesday, January 23, 2002 make the following correction:

On page 3170, in the second column, in the first paragraph, in the sixth line, the phrase “Federal 2002” is corrected to read “February 2002”.

[FR Doc. C2-1649 Filed 1-28-02; 8:45 am]

BILLING CODE 1505-01-D

DEPARTMENT OF EDUCATION

34 CFR Part 75

RIN 1890-AA02

Direct Grant Programs

Correction

In rule document 01-29726 beginning on page 60136 in the issue of Friday, November 30, 2001, make the following corrections:

PART 75—DIRECT GRANT PROGRAMS

1. On page 60138, in the first column, the part heading is corrected to read as set forth above.

§75.225 [Corrected]

2. On the same page, in the third column, in §75.225(a)(2),, in the third line “§§75.127-129” should read “§§75.127-75.129”

[FR Doc. C1-29726 Filed 1-28-02; 8:45 am]

BILLING CODE 1505-01-D

DEPARTMENT OF THE INTERIOR

Bureau of Land Management

43 CFR Parts 3430 and 3470

[WO-320-1430-PB-24 1A]

RIN 1004-AD43

Coal Management: Noncompetitive Leases; Coal Management Provisions and Limitations

Correction

In proposed rule document 02-1339 beginning on page 2618 in the issue of Friday, January 18, 2002, make the following corrections:

On page 2622, in the third column, at the bottom of the page, “PART 3470-COAL MANAGEMENT PROVISIONS AND LIMITATIONS” is corrected to read as follows:

“PART 3470-COAL MANAGEMENT PROVISIONS AND LIMITATIONS

3. The authority citation for part 3470 continues to read as follows:

Authority: 30 U.S.C. 189 and 359 and 43 U.S.C. 1733 and 1740.

Subpart 3472--Lease Qualification Requirements

4. Amend 3472.1-3 by--

a. removing from paragraph (a)(1) the terms “46,080 acres”and “100,000 acres”, and adding in their place the terms “75,000 acres” and “150,000 acres”, respectively; and

b. removing from the second sentence of paragraph (a)(2) the term “100,000 acres” and adding in its place the term “150,000 acres.”

[FR Doc. C2-1339 Filed 1-28-02; 8:45 am]

BILLING CODE 1505-01-D

SECURITIES AND EXCHANGE COMMISSION

[Release No. 34-45274; File No. SR-NYSE-2002-04]

Self-Regulatory Organizations; Notice of Filing and Immediate Effectiveness of Proposed Rule Change by the New York Stock Exchange, Inc. to Reset the Implementation Date for Exchange Rules 134, 407A, and 411, Relating to Error Accounts and Error Accounts Procedures

Correction

In notice document 02-1354 beginning on page 2719 in the issue of Friday, January 18, 2002, make the following correction:

On page 2719, the heading is corrected to read as set forth above.

[FR Doc. C2-1354 Filed 1-28-02; 8:45 am]

BILLING CODE 1505-01-D